DEPARTMENT OF JUSTICE

Notice of Lodging of Consent Decree Between the United States and Seaboard Foods LP and PIC USA, Inc.

Under 28 CFR 50.7, notice is hereby given that on September 15, 2006, a proposed consent decree (“Consent Decree” between the United States and Seaboard Foods LP and PIC USA, Inc. was lodged with the United States District Court for the Western District of Oklahoma (Civil Action Number: 06-cv-00990-R).

The Consent Decree would resolve claims asserted by the United States in a Complaint filed on the same day against Seaboard Food LP and PIC USA, Inc. (collectively, “Defendants”) seeking injunctive relief and assessment of civil penalties for violations of the Solid Waste Disposal Act, as amended by the Resource Conservation and Recovery Act (“RCRA”), 42 U.S.C. 6901 et seq., at certain concentrated animal feeding operations in Oklahoma that are now owned and/or operated by Seaboard Foods LP and were, at the relevant time, owned and/or operated by PIC USA, Inc.

Specifically, the Complaint alleges that on June 26, 2001, EPA issued an Administrative Order pursuant to RCRA 7003(b), 42 U.S.C. 6973(b), Order No. RCRA-06-2001-0908, to Seaboard Farms, Inc. (now Seaboard Foods LP) and PIC International Group, Inc., concerning the following farms: (a) Lacey (a.k.a. Bryan Sow & Norris Farms), located in Kingfisher County, Oklahoma; (b) Lacey 3 (a.k.a. Watson), located in Kingfisher County, Oklahoma; (c) Lacey 4 (a.k.a. Grimes Finisher), located in Kingfisher County, Oklahoma; (d) Lacey 6 (a.k.a. Miller) located in Kingfisher County, Oklahoma; (e) Fairview Nursery Complex (Fairview Nurseries 1-4), located in Major County, Oklahoma. The Order requires the Defendants to identify, investigate, and prevent the mishandling of any solid waste which may present an imminent and substantial endangerment to human health and/or the environment and to ensure that remedial action deemed necessary by the EPA be designed and implemented to protect human health and/or the environment. The Complaint alleges that Defendants willfully violated, or failed or refused to comply with the Administrative Order issued by EPA.

The Consent Decree provides for the payment of a civil penalty of $240,000 and requires Defendants to perform various groundwater remediation and source control measures (including infrastructure repairs, lagoon removals, and soil, leachate, and groundwater testing and monitoring related to the land application of effluent) at the above-named farms, as well as the Choate Sow Farm, located in Kingfisher County, Oklahoma.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Seaboard Foods LP and PIC USA, Inc., Civil Action No. 06-cv-00990-R; D.J. Ref. No. 90-5-1-1-07570/1. Commenters may request an opportunity for a public meeting in the affected area, in accordance with section 7003(d) of RCRA, 42 U.S.C. 6973(d).

The Consent Decree may be examined at the Office of the United States Attorney, Western District of Oklahoma, 210 Park Avenue, Suite 400, Oklahoma City, OK 73102, and at U.S. EPA Region VI, 1445 Ross Avenue, Dallas, TX 75202-2733. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.75 (67 pages at 25 cents per page reproduction cost) payable to the U.S. Treasury or, if by e-mail or fax, forward a check in that amount to the Coastal Decree Library at the stated address.

Thomas A. Mariani, Jr.,
Assistant Section Chief, Environmental Enforcement Section, Environment and Natural Resources Division.

[FR Doc. 06-8288 Filed 9-26-06; 8:45 am]

BILLING CODE 4410-15-M